NATIONAL SCIENCE FOUNDATION

Advisory Panel for Genetics: Notice of Meeting

In accordance with Federal Advisory Committee Act (Pub. L. 92-463, as amended), the National Science Foundation announces the following meeting:

Name: Advisory Panel for Genetics (1149) Panel A.

Date/Time: May 3-4, 2000, 8:30 a.m. to 5:00 p.m.

Place: National Science Foundation, Room 360, 4201 Wilson Boulevard, Arlington, VA 22230.

Type of Meeting: Closed.

Contact Person: Philip Harriman or Philip Youderian, Program Directors, Molecular and Cellular Biosciences Division, National Science Foundation, Room 655, 4201 Wilson Boulevard, Arlington, VA 22230. (703) 306-1439.

Purpose of Meeting: To provide advice and recommendations concerning proposals submitted to NSF for financial support.

Agenda: To review and evaluate Microbial Genetics Proposals as part of the selection process for awards.

Reasons for Closing: The proposals being reviewed include informaton of a proprietary or confidential nature, including technical information; financial data, such as salaries; and personal information concerning individuals associated with the proposals. These matters are exempt under 5 U.S.C. 552b. (c) (4) and (6) of the Government in the Sunshine Act.

Dated: February 23, 2000.
Karen J. York,
Committee Management Officer.

[FR Doc. 00-4707 Filed 2-28-00; 8:45 am]

BILLING CODE 2555-01-M